DEPARTMENT OF AGRICULTURE

Submission for OMB Review; Comment Request

June 12, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 16, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Census of Aquaculture.

OMB Control Number: 0535-0237.

Summary of Collection: The primary objective of the 2018 Census of Aquaculture is to obtain a comprehensive and detailed picture of the aquaculture sector of the economy. The census of agriculture is required by law under the “Census of Agriculture Act of 1997,” Public Law 105-113 (Title 7, United States Code, Section 2204g). The census of aquaculture will be the only source of data comparable and consistent at the national and State levels for the aquaculture industry. It will cover all operations, commercial or noncommercial, for which $1,000 or more of aquaculture products were sold or normally would have been sold during the census year. The census of aquaculture is one of a series of special study programs that comprise the follow-on study to the Census of Agriculture and is designed to provide detailed statistics on the aquaculture industry.

Need and Use of the Information: The National Agricultural Statistics Service will collect data to provide a comprehensive inventory on the number of operations, freshwater and saltwater acreage used for aquaculture production, water sources used for production, methods of production, total production, sales outlets, value of aquaculture products sold and sales by aquaculture species, products distributed for recreation, restoration, or conservation by species. These data will provide information on the aquaculture industry necessary for farmers, government, and various groups, concerned with the aquaculture industry to evaluate policy and programs, make marketing decisions, and determine the economic impact on the economy.

Description of Respondents: Farms; Business or other for-profit.

Number of Respondents: 6,100.

Frequency of Responses: Reporting: One-time (Every 5-years).

Total Burden Hours: 3,073.

Ruth Brown,
Departmental Information Collection Clearance Officer.

[FR Doc. 2018-12860 Filed 6-14-18; 8:45 am]

BILLING CODE 3410-20-P